DEPARTMENT OF AGRICULTURE

Forest Service

Notice of Madison-Beaverhead Advisory Committee Meeting Date and Location

AGENCY: Forest Service, USDA.

ACTION: Notice of meeting date and location.

SUMMARY: Pursuant to the authorities in the Federal Advisory Committee Act (Pub. L. 92-463) and the Secure Rural Schools and Community Self-Determination Act of 2000 (Pub. L. 106-393), the Beaverhead-Deerlodge National Forest's Madison-Beaverhead Resource Advisory Committee will meet on Thursday, January 19, 2006, from 10 a.m. until 4 p.m., in Ennis, Montana, for a business meeting. The meeting is open to the public.

DATES: Thursday, January 19, 2006.

ADDRESSES: The meeting will be held at the Forest Service office, 5 Forest Service Road, Ennis, Montana.

FOR FURTHER INFORMATION CONTACT: Bruce Ramsey, Designated Forest Official (DFO), Forest Supervisor, Beaverhead-Deerlodge National Forest, at (406) 683-3973.

SUPPLEMENTARY INFORMATION: Agenda topics for this meeting include electing a chair, hearing and deciding on proposals for projects to fund under Title II of Public Law 106-393, hearing public comments, and other business. If the meeting location changes, notice will be posted in local newspapers, including the Dillon Tribune and The Montana Standard.

Dated: December 27, 2005.
Bruce Ramsey,
Acting Forest Supervisor.

[FR Doc. 05-24680 Filed 12-30-05; 8:45 am]

BILLING CODE 3410-11-M